SOCIAL SECURITY ADMINISTRATION

Agency Information Collection Activities: Proposed Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the SSA Reports Clearance Officer. The information can be mailed and/or faxed to the individual at the address and fax number listed below:

(SSA), Social Security Administration, DCFAM, Attn: Reports Clearance Officer, 1333 Annex Building, 6401 Security Blvd., Baltimore, MD 21235, Fax: 410-965-6400.

The information collection listed below is pending at SSA and will be submitted to OMB within 60 days from the date of this notice. Therefore, your comments should be submitted to SSA within 60 days from the date of this publication. You can obtain a copy of the collection instrument by calling the SSA Reports Clearance Officer at 410-965-0454 or by writing to the address listed above.

Permanent Residence Under Color of the Law (PRUCOL)—20 CFR 416.1615 and 416.1618—0960-0451. Under Public Law 104-193, which was effective August 22, 1996, a non-citizen must be a “qualified alien” and meet certain additional requirements in order to be eligible for Supplemental Security Income (SSI). This law also established an exception to the new requirements for certain “nonqualified aliens” (i.e., non-citizens who are not qualified aliens). Nonqualified aliens who were receiving SSI on August 22, 1996 were allowed to remain on the rolls until September 30, 1997, at which time benefits would be suspended if the aliens had not acquired qualified alien status. Public Law 105-33 extended the suspension date to September 30, 1998. Public law 105-306, enacted October 28, 1998, provided that nonqualified aliens who were receiving SSI on August 22, 1996 would remain eligible for SSI after September 30, 1998 provided all other requirements for eligibility were met (e.g., income and resources, etc.). SSI eligibility for this group of aliens—”grandfathered nonqualified aliens”—will continue to be determined based on the rules governing alien eligibility in effect prior to August 22, 1996, i.e., the PRUCOL standard.

As discussed in SSA regulations at 20 CFR 416.1615 and 416.1618, a PRUCOL alien must present evidence of his/her alien status at application and periodically thereafter as part of the eligibility determination process for SSI. SSA verifies the validity of the evidence of PRUCOL for grandfathered nonqualified aliens with the Department of Homeland Security (DHS). Based on the DHS response, SSA will determine whether the individual is PRUCOL. Without this information, SSA would not be able to determine whether the individual is eligible for SSI payments. The respondents are individuals who have alien status and live in the United States.

Type of Request: Extension of an OMB-approved information collection.

Number of Respondents: 9,000.

Frequency of Response: 1.

Average Burden per Response: 5 minutes.

Estimated Annual Burden: 750 hours.

Dated: January 18, 2006.
Elizabeth A. Davidson,
Reports Clearance Officer, Social Security Administration.

[FR Doc. E6-888 Filed 1-24-06; 8:45 am]

BILLING CODE 4191-02-P